DEPARTMENT OF ENERGY

Federal Energy Regulatory Commission

[Docket No. CP03-80-001]

Eastern Shore Natural Gas Company; Notice Of Application

January 6, 2005.

Take notice that on December 22, 2004, Eastern Shore Natural Gas Company, (Eastern Shore), 417 Bank Lane, Dover, Delaware 19904, filed in Docket No. CP03-80-001 an application pursuant to section 7(c) of the Natural Gas Act (NGA), for a certificate of public convenience and necessity to amend the certificate issued in Docket No. CP03-80-000 by a Commission order dated October 8, 2003. Eastern Shore explains that its instant application seeks to modify its proposal to construct and operate certain pipeline facilities in Delaware and Pennsylvania in order to provide additional firm transportation capacity on its system. Eastern Shore states that its customers have re-evaluated their needs for the winter of 2005 and have determined that they will need an additional 7,450 Dth per day of capacity on Eastern Shore's system above that previously contracted for. Therefore, Eastern Shore requests authority to construct and operate 20.98 miles of pipeline looping and extensions on its system. This filing may be viewed on the Commission's Web site at http://www.gov using the “FERRIS” link. Enter the docket number excluding the last three digits in the docket number field to access the document. For assistance, call (202) 502-8222 or for TTY, call (202) 208-1659.

Any questions regarding the application may be directed to Eric M. Pearson, Manager of Engineering, Eastern Shore Natural Gas Company, 417 Bank Lane, Dover, Delaware 19904, at (302) 734-6710, ext. 6506.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the instructions on the Commission's website under the “e-Filing” link. The Commission strongly encourages intervenors to file electronically.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervener status.

Comment Date: January 21, 2005.

Magalie R. Salas,
Secretary.

[FR Doc. E5-104 Filed 1-11-05; 8:45 am]

BILLING CODE 6717-01-P